NUCLEAR REGULATORY COMMISSION

[NRC-2022-0080]

Draft Interim Staff Guidance: Advanced Reactor Content of Application Project, “Risk-informed Inservice Inspection/Inservice Testing”

AGENCY: Nuclear Regulatory Commission.

ACTION: Draft guidance; request for comment.

SUMMARY: The U.S. Nuclear Regulatory Commission (NRC) is soliciting public comment on its draft Interim Staff Guidance (ISG) DANU-ISG-2022-07, “Risk-informed Inservice Inspection/Inservice Testing.” The purpose of this proposed ISG is to provide guidance to assist the NRC staff in determining whether an application for a non-light water reactor (non-LWR) design that uses the Licensing Modernization Project (LMP) process meets the minimum requirements for construction permits, operating licenses, combined license, manufacturing licenses, standard design approval, or design certifications.

DATES: Submit comments by July 10, 2023. Comments received after this date will be considered if it is practical to do so, but the Commission is able to ensure consideration only for comments received on or before this date.

ADDRESSES: You may submit comments by any of the following methods; however, the NRC encourages electronic comment submission through the Federal rulemaking website.

• Federal rulemaking website: Go to http://www.regulations.gov and search for Docket ID NRC-2022-0080. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michael Orenak, Office of Nuclear Reactor Regulation, U.S. Nuclear Regulatory Commission, Washington, DC 20555-0001, telephone: 301-415-3229, email: Michael.Orenak@nrc.gov.

SUPPLEMENTARY INFORMATION:

I. Obtaining Information and Submitting Comments

A. Obtaining Information

Please refer to Docket ID NRC-2022-0080 when contacting the NRC about the availability of information for this action. You may obtain publicly available information related to this action by any of the following methods:

• Federal Rulemaking Website: Go to https://www.regulations.gov and search for Docket ID NRC-2022-0080.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2022-0080 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC anticipates the submission of advanced power-reactor applications within the next few years based on preapplication engagement initiated by several prospective applicants. Because many of these designs are non-LWRs, the NRC is developing technology-inclusive, risk-informed, performance-based guidance to support the development and review of these non-LWR applications. The proposed guidance will facilitate the development and review of non-LWR reactor applications for construction permits or operating licenses under part 50 of title 10 of the Code of Federal Regulations (10 CFR), “Domestic Licensing of Production and Utilization Facilities,” or combined licenses, manufacturing licenses, standard design approval, or design certifications under 10 CFR part 52, “Licenses, Certifications, and Approvals for Nuclear Power Plants.” The NRC is developing a rule to amend 10 CFR parts 50 and 52 (RIN 3150-Al66). The NRC staff notes this proposed ISG may need to be updated to conform to changes to 10 CFR parts 50 and 52, if any, adopted through that rulemaking. Further, as of the date of this draft ISG, the NRC is developing an optional performance-based, technology-inclusive regulatory framework for licensing nuclear power plants designated as 10 CFR part 53, “Licensing and Regulation of Advanced Nuclear Reactors,” (RIN 3150-AK31). The NRC intends to revise this proposed guidance as a part of the ongoing rulemaking for 10 CFR part 53.

To standardize the development of content of a non-LWR application, the staff focused on two activities: the Advanced Reactor Content of Application Project (ARCAP) and the Technology-Inclusive Content of Application Project (TICAP). The ARCAP is an NRC-led activity that is intended to result in guidance for a complete non-LWR application for review under 10 CFR part 50 or 10 CFR part 52, and which the staff would update, as appropriate, pending the issuance of the 10 CFR part 50 and 10 CFR part 52 rulemaking as previously mentioned in this notice, or if the Commission issues a final 10 CFR part 53 rule. As a result, the ARCAP is broad and encompasses several industry-led and NRC-led guidance document development activities aimed at facilitating a consistent approach to the development of application documents.

The TICAP is an industry-led activity that is focused on providing guidance on the appropriate scope and depth of information related to the specific portions of the safety analysis report that describe the fundamental safety functions of the design and document the safety analysis of the facility using LMP-based approach. The LMP-based approach is described in Regulatory Guide (RG) 1.233, “Guidance for a Technology-Inclusive, Risk-Informed, and Performance-Based Methodology to Inform the Licensing Basis and Content of Applications for Licenses, Certifications, and Approvals for Non-Light-Water Reactors,” (ADAMS Accession No. ML20091L698).

The ARCAP draft ISG titled “Review of Risk-Informed, Technology Inclusive Advanced Reactor Applications—Roadmap” (ARCAP Roadmap ISG) provides a general overview of the information that should be included in a non-LWR application. The ARCAP Roadmap ISG also provides a review roadmap for the NRC staff with the principal purpose of ensuring consistency, quality, and uniformity of NRC staff reviews. The ARCAP Roadmap ISG includes references to eight other ARCAP draft ISGs and a TICAP draft regulatory guide (DG) that are the subject of separate Federal Register notices (FRNs) requesting comment on these guidance documents. Information regarding the eight other ARCAP draft ISGs and the TICAP DG can be found in the “Availability of Documents” section of this FRN.

III. Request for Comment

The ARCAP draft ISG titled, “Risk-informed Inservice Inspection/Inservice Testing [ISI/IST],” that is the subject of this FRN for which the staff is seeking comment, was developed because the current application and review guidance related to ISI and IST programs are based on requirements found in 10 CFR 50.55a, “Codes and standards,” that are only applicable to, and focus on, large light water reactor (LWR) technologies. In addition, the current application and review guidance for large LWR ISI and IST programs may not fully (or efficiently) identify the information to be included in a technology-inclusive, risk-informed, and performance-based application or provide a review approach for an application using non-LWR technologies. The Risk-informed ISI/IST draft ISG also refers to several NRC-issued, approved, or endorsed documents and the NRC is requesting comment on this proposed ISG's use of those documents.

Additionally, the staff is issuing for public comment a draft regulatory analysis. The staff developed a regulatory analysis to assess the value of issuing or revising a regulatory guide as well as alternative courses of action. The development of both application guidance and staff review guidance is warranted. If finalized, this ISG will serve as the non-LWR application and review guidance for risk-informed ISI and IST programs.

IV. Availability of Documents

The table in this notice provides the document description, ADAMS accession number, and, if appropriate, the docket identification number referencing the request for public comment on supporting documents associated with the document that is the subject of this FRN.

Document description | ADAMS accession No. | Regulations.gov docket ID No.
Draft Interim Staff Guidance DANU-ISG-2022-01 “Advanced Reactor Content of Application Project, `Review of Risk-Informed, Technology Inclusive Advanced Reactor Applications—Roadmap' ” | ML22048B546 | NRC-2022-0074
Draft Interim Staff Guidance DANU-ISG-2022-02, “Advanced Reactor Content of Application Project Chapter 2, `Site Information' ” | ML22048B541 | NRC-2022-0075
Draft Interim Staff Guidance DANU-ISG-2022-03, “Advanced Reactor Content of Application Project Chapter 9, `Control of Routine Plant Radioactive Effluents, Plant Contamination and Solid Waste' ” | ML22048B543 | NRC-2022-0076
Draft Interim Staff Guidance DANU-ISG-2022-04, “Advanced Reactor Content of Application Project Chapter 10, `Control of Occupational Dose' ” | ML22048B544 | NRC-2022-0077
Draft Interim Staff Guidance DANU-ISG-2022-05, “Advanced Reactor Content of Application Project Chapter 11, `Organization and Human-System Considerations' ” | ML22048B542 | NRC-2022-0078
Draft Interim Staff Guidance DANU-ISG-2022-06, “Advanced Reactor Content of Application Project Chapter 12, `Post-Construction Inspection, Testing, and Analysis Program' ” | ML22048B545 | NRC-2022-0079
Draft Interim Staff Guidance DANU-ISG-2022-07, “Advanced Reactor Content of Application Project, `Risk-informed Inservice Inspection/Inservice Testing' ” | ML22048B549 | NRC-2022-0080
Draft Interim Staff Guidance DANU-ISG-2022-08, “Advanced Reactor Content of Application Project, `Risk-Informed Technical Specifications' ” | ML22048B548 | NRC-2022-0081
Draft Interim Staff Guidance DANU-ISG-2022-09, “Advanced Reactor Content of Application Project, `Risk-informed Performance-based Fire Protection Program (for Operations)' ” | ML22048B547 | NRC-2022-0082
DG-1404, “Guidance for a Technology-Inclusive Content of Application Methodology to Inform the Licensing Basis and Content of Applications for Licenses, Certifications, and Approvals for Non-Light-Water Reactors” | ML22076A003 | NRC-2022-0073
Regulatory Analysis for ARCAP ISGs | ML23093A099 | NRC-2022-0074

V. Backfitting, Forward Fitting, and Issue Finality

DANU-ISG-2022-07, if finalized, would not constitute backfitting as defined in 10 CFR 50.109, “Backfitting,” and as described in Management Directive (MD) 8.4, “Management of Backfitting, Forward Fitting, Issue Finality, and Information Requests”; constitute forward fitting as that term is defined and described in MD 8.4; or affect the issue finality of any approval issued under 10 CFR part 52. The guidance would not apply to any current licensees or applicants or existing or requested approvals under 10 CFR part 52, and therefore its issuance cannot be a backfit or forward fit or affect issue finality. Further, as explained in DANU-ISG-2022-07, applicants and licensees would not be required to comply with the positions set forth in DANU-ISG-2022-07.

Dated: May 22, 2023.
For the Nuclear Regulatory Commission.
Steven T. Lynch,
Chief, Advanced Reactor Policy Branch, Division of Advanced Reactors and Non-Power Production and Utilization Facilities, Office of Nuclear Reactor Regulation.

[FR Doc. 2023-11180 Filed 5-24-23; 8:45 am]

BILLING CODE 7590-01-P